DEPARTMENT OF COMMERCE

Foreign-Trade Zones Board

[Docket 25-2001]

Foreign-Trade Zone 230—Winston-Salem, NC; Application for Subzone Status, United Chemi-Con, Inc., Plant (Aluminum Electrolytic Capacitors), Lansing, North Carolina

An application has been submitted to the Foreign-Trade Zones Board (the Board) by the Piedmont Triad Partnership, grantee of FTZ 230, requesting special-purpose subzone status for the aluminum electrolytic capacitor manufacturing plant of United Chemi-Con, Inc. (UCC) (a subsidiary of Nippon Chemi-Con, Inc., of Japan), located in Lansing, North Carolina. The application was submitted pursuant to the provisions of the Foreign-Trade Zones Act, as amended (19 U.S.C. 81a-81u), and the regulations of the Board (15 CFR Part 400). It was formally filed on June 18, 2001.

The UCC plant (45 acres/211,000 sq. ft.) is located 185 McNeil Road, Lansing (Ashe County), North Carolina. The facility is used to produce aluminum electrolytic capacitors (HTSUS# 8532.22.0020-85) for export and the domestic market. The production process involves etching, formation, slitting, winding and electrolyte impregnation of aluminum foil, which is then sealed into aluminum cans. Components purchased from abroad (representing 30% of finished capacitor value) include: polyoxy ethylene glyceline, aluminum and copper wire, adipic acid, maleic acid, isomeric decanedicarboxlic acid, silicone, tape, tubes of PET and PVC, gaskets, vent plugs, kraft and manila paper, aluminum etched foil, aluminum tabs, and fasteners (duty rate range: free—8.2%).

FTZ procedures would exempt UCC from Customs duty payments on the foreign components used in export production (20% of shipments). On its domestic sales, the company would be able to choose the duty rate that applies to finished aluminum electrolytic capacitors (duty free) for the foreign inputs noted above. The application indicates that subzone status would help improve the plant's international competitiveness.

In accordance with the Board's regulations, a member of the FTZ Staff has been designated examiner to investigate the application and report to the Board.

Public comment on the application is invited from interested parties. Submissions (original and three copies) shall be addressed to the Board's Executive Secretary at the address below. The closing period for their receipt is August 27, 2001. Rebuttal comments in response to material submitted during the foregoing period may be submitted during the subsequent 15-day period (to September 11, 2001).

A copy of the application and the accompanying exhibits will be available for public inspection at each of the following locations:

Office of the Port Director, U.S. Customs Service—Greensboro, Suite C, 532 North Regional Road, Greensboro, NC 27409.

Office of the Executive Secretary, Foreign-Trade Zones Board, U.S. Department of Commerce, Room 4008, 14th Street & Constitution Avenue, NW, Washington, DC 20230-0002.

Dated: June 18, 2001.
Dennis Puccinelli,
Executive Secretary.

[FR Doc. 01-16015 Filed 6-25-01; 8:45 am]

BILLING CODE 3510-DS-P